DEPARTMENT OF ENERGY

National Nuclear Security Administration

Notice of Intent to Prepare a Supplemental Environmental Impact Statement to the Final Site-Wide Environmental Impact Statement for Continued Operation of the Los Alamos National Laboratory

AGENCY: U.S. Department of Energy, National Nuclear Security Administration.

ACTION: Notice of Intent.

SUMMARY: Pursuant to the National Environmental Policy Act (NEPA) of 1969, as amended (42 U.S.C. 4321 et seq.), the Council on Environmental Quality's (CEQ) and the U.S. Department of Energy's (DOE) regulations implementing NEPA (40 CFR parts 1500-1508 and 10 CFR part 1021, respectively), the National Nuclear Security Administration (NNSA), an agency within the DOE, announces its intent to prepare a supplemental site-wide environmental statement (S-SWEIS) to update the analyses presented in the Final Site-Wide Environmental Impact Statement for Continued Operation of the Los Alamos National Laboratory (SWEIS) (DOE/EIS-0238; January 1999). The purpose of this notice is to invite individuals, organizations, and government agencies and entities to participate in developing the scope of the S-SWEIS.

In its September 1999 Record of Decision (ROD) based on the SWEIS, DOE announced its decision to implement the Expanded Operations Alternative analyzed in the SWEIS, with modifications to weapons related production work (the Preferred Alternative), at Los Alamos National Laboratory (LANL). That decision is being implemented at LANL. Pursuant to 40 CFR 1502.20, the S-SWEIS will rely on and expand on the analysis in the original SWEIS. The No Action Alternative for the S-SWEIS is the continued implementation of the SWEIS ROD, together with other actions described and analyzed in subsequent NEPA reviews. The Proposed Action in the S-SWEIS will include changes since the SWEIS 1999 ROD.

DATES: NNSA invites comments on the scope of this S-SWEIS through February 27, 2005. NNSA will hold a public scoping meeting in Pojoaque, New Mexico, at the Pablo Roybal Elementary School on January 19, 2005, from 6 to 8 pm. Scoping comments received after February 27, 2005, will be considered to the extent practicable.

ADDRESSES: To submit comments on the scope of the S-SWEIS, questions about the document or scoping meeting, or requests to be placed on the document distribution list, please write or call: Ms. Elizabeth Withers (e-mail address: lanl_sweis@doeal.gov; mailing address: NNSA Los Alamos Site Office, NEPA Compliance Officer, 528 35th Street, Los Alamos, New Mexico, 87544; (toll free) telephone 1-877-491-4957; or Facsimile 505-667-9998).

FOR FURTHER INFORMATION CONTACT: For general information about the DOE NEPA process, please contact: Ms. Carol Borgstrom, Director, Office of NEPA Policy and Compliance (EH-42), U.S. Department of Energy, 1000 Independence Avenue, SW, Washington, DC 20585, 202-586-4600, or leave a message at 1-800-472-2756.

SUPPLEMENTARY INFORMATION: LANL is located in north-central New Mexico, 60 miles north-northeast of Albuquerque, 25 miles northwest of Santa Fe, and 20 miles southwest of Española in Los Alamos and Santa Fe Counties. It is located between the Jemez Mountains to the west and the Sangre de Cristo Mountains and Rio Grande to the east. LANL occupies about 40 square miles (104 square kilometers) and is operated for NNSA under contract, by the University of California. (The contract for LANL's management and operation is undergoing a competitive bid process; however, the selection of the LANL management and operations contractor in the future will not affect the nature of the NNSA and DOE work performed at LANL.)

LANL is a multidisciplinary, multipurpose institution primarily engaged in theoretical and experimental research and development. LANL has been assigned science, research and development, and production mission support activities that are critical to the accomplishment of the national security objectives (as reflected in the ROD for the September 1996 Final Programmatic Environmental Impact Statement for Stockpile Stewardship and Management (DOE/EIS-0236)). Specific LANL assignments will continue for the foreseeable future include production of War-Reserve products, assessment and certification of the stockpile, surveillance of the War-Reserve components and weapon systems, ensuring safe and secure storage of strategic materials, and management of excess plutonium inventories. LANL's main role in the fulfillment of DOE mission objectives includes a wide range of scientific and technological capabilities that support nuclear materials handling, processing and fabrication; stockpile management; materials and manufacturing technologies; nonproliferation programs; and waste management activities.

The Final LANL SWEIS, issued in January 1999, considered the operation of LANL at various levels for about a 10-year period of time. Alternatives considered in that document were: No Action Alternative, the Expanded Operations Alternative, the Reduced Operations Alternative, and the Greener Alternative. In addition to providing an overview of the LANL site and its activities and operations, the SWEIS identified 15 LANL “Key Facilities” for the purposes of NEPA analysis. “Key Facilities” are those facilities that house operations with the potential to cause significant environmental impacts; are of most interest or concern to the public based on scoping comments; or are facilities that would be the most subject to change due to potential programmatic decisions. The operations of these “Key Facilities” were described in the SWEIS and, together with other non-key facility functions, formed the basis of the description of LANL facilities and operations analyzed for their potential impacts. The Preferred Alternative was the Expanded Operations Alternative with certain reductions in weapons-related manufacturing capabilities. This alternative was chosen for implementation in the ROD issued in September 1999.

In mid-2004, NNSA undertook the preparation of a Supplement Analysis for the SWEIS pursuant to DOE's regulatory requirement to evaluate site-wide NEPA documents at least every 5 years (10 CFR 1021.330) and determine whether the existing EIS remains adequate, to prepare a new site-wide EIS, or prepare a supplement to the existing EIS. During the development of this Supplement Analysis, NNSA decided to proceed immediately with a supplement to the existing SWIES in order to expedite the NEPA process and to save time and money. DOE NEPA regulations (10 CFR 1021.314) require the preparation of a Supplemental EIS if there are substantial changes to a proposal or significant new circumstances or information relevant to environmental concerns. Substantial changes to the level of LANL operations may result from proposed, modified or enhanced activities and operations within LANL facilities (discussed later in subsequent paragraphs of this Notice), and new circumstances and information with regard to effects from the Cerro Grande Fire (which burned a part of LANL), a reduction in the size of the LANL reservation due to recent land conveyance and transfers, and contaminant migration have come to light over the past five years that could be deemed significant under 10 CFR 1021.314.

Since the issuance of the Final SWEIS in 1999, DOE and NNSA have finalized several environmental impact statements, environmental assessments (EA), and a special environmental analysis dealing with LANL operations and actions taken immediately after the 2000 Cerro Grande Fire. The activities analyzed in these NEPA documents and developing changes to the LANL environmental setting led NNSA to conclude it would be prudent and efficient to begin updating the SWEIS now by preparing a supplemental SWEIS. NNSA will use the S-SWEIS to consider the potential impacts of proposed modifications to LANL activities, as well as the cumulative impacts associated with on-going activities at LANL, on the changed LANL environment.

The S-SWEIS will provide a review of the impacts resulting from implementing the SWEIS ROD over the past 5 years at LANL and compare these impacts to the impacts projected in the SWEIS analyses for that alternative to provide an understanding of the SWEIS's ability to identify potential impacts. The S-SWEIS analyses will focus primarily on aspects of the existing environment that could be impacted by newly proposed changes to LANL operations at certain facilities and by environmental cleanup actions that could occur over the next 5 to 6 years in response to a consent order from the State of New Mexico. The S-SWEIS Proposed Action will analyze projected impacts anticipated from operating LANL at the 1999 ROD level for at least the next 5 years, with some modified work now being proposed at certain facilities. NNSA is considering proposed operational changes within at least two new “Key Facilities” at LANL:

• The Nicholas C. Metropolis Center for Modeling and Simulation (formerly called the Strategic Computing Complex), and

• The Nonproliferation and International Security Center (NISC).

The construction and operation of the Nicholas C. Metropolis Center for Modeling and Simulation were analyzed in a December 1998 EA and a finding of no significant impact (FONSI) for that proposed action was issued based on the impact analyses for operating the computational facility up to a 50-TeraOp platform (a TeraOp is a trillion floating point operations per second). The Center has been constructed and is currently operating below the operations level analyzed in the 1998 EA; however, NNSA proposes to increase the facility's operational capacity up to 100 TeraOps before 2009 with corresponding increases to the facility's consumption of water and electrical power resources. This proposed increase in the operating platform from 50 TeraOps up to 100 TeraOps will be analyzed in the S-SWEIS.

The NISC's construction and operation were analyzed in a July 1999 EA and a FONSI was issued for that proposed action based on the impact analyses for consolidating activities and operating the facility as it was envisioned at that time. The facility is currently operating as evaluated in the 1999 EA; however, NNSA is now proposing to move certain operations from the Technical Area 18 (TA-18) Pajarito Site (another of LANL's “Key Facilities,” which is also discussed in the following paragraph) into the NISC. This would change the amount of nuclear material stored in the facility, with corresponding potential increases to worker exposures in the case of a site accident. The proposed changes to operations and material stored in NISC will be analyzed in the S-SWEIS.

NNSA will also eliminate one former LANL “Key Facility” identified in the 1999 SWEIS—the TA-18 Pajarito Site. In its 2002 EIS (the TA-18 Relocation Final EIS (DOE/EIS-319)) and ROD, the NNSA decided to relocate TA-18 security category I and II operations and associated nuclear material to the Nevada Test Site. Implementation of the relocation decision began in 2004 and will continue over the next 5 years. After relocation of operations and materials, this facility will no longer be a LANL “Key Facility” within the meaning of the SWEIS, and therefore will not be listed as such a facility. There are certain proposals related to the relocation of the TA-18 security category III and IV operations and the disposition of the TA-18 facilities that were not analyzed in the 2002 EIS; these proposed actions and their projected impacts will be evaluated in the S-SWEIS impact analyses.

Certain aspects of operational changes, construction and activities that have occurred or are being proposed for LANL over the next 5 years that were not analyzed in the 1999 SWEIS will also be considered and analyzed in the S-SWEIS. Changes that have been made to existing LANL operations that will also be considered further in the S-SWEIS include some permanent modifications to on-going operations that have recently been made as a result of decreases in specific work and projects performed at some LANL facilities, and changes to the locations of various types of materials at risk (MAR) at LANL facilities or off-site locations. Examples of newly proposed actions at LANL include the remediation of 10 major material disposal areas (MDAs) at LANL; the operation of a Biosafety Level-3 (BSL-3) Facility (this facility will become part of an existing “Key Facility” at LANL, the former Health Research Laboratory (HRL) now known as the Bioscience Facilities); the construction and operation of a new solid waste transfer station, an office and light laboratory complex, a consolidated warehouse and truck inspection station, and a new radiography facility; and recently proposed increases in the types and quantities of sealed sources accepted for waste management at LANL. Some of these newly proposed actions may be analyzed explicitly in the S-SWEIS in project specific analyses, while others may be analyzed in separate EAs to be prepared over the next several months, such as the new BSL-3 Facility EA. The potential impacts of the BSL-3 Facility will be included in the S-SWEIS evaluation of cumulative impacts, as will the impacts of all of the newly proposed actions. A comparison of the newly projected operational impacts will also be made to the projected impacts identified in the SWEIS.

The NEPA compliance process for the BSL-3 Facility at LANL has spanned several years. In early 2002, the NNSA issued an EA and FONSI for the construction and operation of the facility at LANL. Due to the need to consider new circumstances and information relevant to the actual construction of the BSL-3 Facility and its future operation, the NNSA withdrew the 2002 FONSI for operating this facility and determined that a new EA should be prepared that re-evaluates the proposed operations of the facility as it has been constructed. The new EA is currently being prepared and a draft EA will be issued for public review and comment in early 2005. The EA will be used by NNSA in making a decision about whether to issue a FONSI for operation of the BSL-3 Facility. If a FONSI cannot be issued, the analyses for the operation of the BSL-3 Facility will be included in the S-SWEIS Proposed Action.

In accordance with applicable DOE and CEQ NEPA regulations, the No Action Alternative will also be analyzed in the S-SWEIS. In this case, the No Action Alternative will be the continued implementation of the 1999 ROD at LANL over the next 5 years as this alternative was originally analyzed in the SWEIS, and will also include the implementation of other actions selected in DOE and NNSA RODs supported by separate NEPA reviews (specifically, actions analyzed since the issuance of the final SWEIS in the Final Environmental Impact Statement for the Conveyance and Transfer of Certain Land Tracts Administered by the U.S. Department of Energy and Located at Los Alamos National Laboratory, Los Alamos and Santa Fe Counties, New Mexico (DOE/EIS-293), the Final Environmental Impact Statement for the Proposed Relocation of Technical Area 18 Capabilities and Materials at Los Alamos National Laboratory (DOE/EIS-319), the Final Environmental Impact Statement for the Chemistry and Metallurgy Research Building Replacement Project at Los Alamos National Laboratory, Los Alamos, New Mexico (DOE/EIS-0350), and in about 20 various EAs and their associated FONSIs, as well as actions categorically excluded from the need for preparation of either an EA or an EIS). The Los Alamos Site Office has posted a list of EAs and their associated FONSIs that pertain to LANL operations dating from the completion of the 1999 SWEIS on their Web site at: http://www.doeal.gov/LASO/nepa. The full text of most of these EAs is also available through links provided at that Web site; copies of all of the documents may be obtained by contacting Ms. Withers at any of the addresses provided previously in this Notice.

Changes or new information have also surfaced regarding the environmental setting at LANL over the past 5 years that may affect future LANL operations, such as changes to LANL watersheds as the result of the Cerro Grande Fire, new information and changes resulting from thinning the forests around LANL, and the long-term effects from the regional drought. Additionally, there have been changes to both the number of LANL workers and to the surrounding population that have occurred or are being projected that are different from those on which the SWEIS socioeconomic and other impact analyses were based. To the extent that changes to or new information about the existing LANL environment may significantly affect natural and cultural resource areas originally considered in the 1999 SWEIS, projected impacts associated with implementing the Proposed Action over the next 5 years at LANL will be analyzed in the S-SWEIS.

Direct, indirect, and unavoidable impacts to the various natural and cultural resources present at LANL, together with irreversible and irretrievable commitments and mitigations, will also be analyzed in the S-SWEIS. Further, operational and site differences require a re-evaluation of LANL operational accident analyses and a new assessment and understanding of cumulative impacts of LANL operations will also be addressed.

Public Scoping Process: The scoping process is an opportunity for the public to assist the NNSA in determining the issues for impact analysis, and at least one public scoping meeting is held. The purpose of the scoping meeting is to provide attendees an opportunity to present oral and written comments, ask questions, and discuss concerns regarding the S-SWEIS with NNSA officials. Comments and recommendations can also be mailed to Elizabeth Withers at any of the identified addresses noted in the previous paragraphs of this Notice. The S-SWEIS meeting will use a format to facilitate dialogue between NNSA and the public and will be an opportunity for individuals to provide written or oral statements. NNSA welcomes specific comments or suggestions on the content of the document that could be considered. The potential scope of the S-SWEIS discussed in the previous portions of this Notice is tentative and is intended to facilitate public comment on the scope of this S-SWEIS. It is not intended to be all-inclusive, nor does it imply any predetermination of potential impacts. The S-SWEIS will describe the potential environmental impacts of the alternatives by using available data where possible and obtaining additional data where necessary. Copies of written comments and transcripts of oral comments provided to NNSA during the scoping period will be available at the following locations: Los Alamos Outreach Center, 1350 Central Avenue, Suite 101, Los Alamos, New Mexico, 87544; and the Zimmerman Library, University of New Mexico, Albuquerque, New Mexico 87131.

S-SWEIS Preparation Process: The S-SWEIS preparation process begins with the publication of this Notice of Intent in the Federal Register. After the close of the public scoping period, NNSA will begin developing the draft S-SWEIS. NNSA expects to issue the Draft S-SWEIS for public review in the fall of 2005. Public comments on the Draft S-SWEIS will be received during a comment period of at least 45 days following publication of the Notice of Availability. The Notice of Availability, also published in the Federal Register, along with notices placed in local newspapers, will provide dates and locations for public hearings on the Draft S-SWEIS and the deadline for comments on the draft document. Issuance of the Final S-SWEIS is scheduled for early 2006.

Issued in Washington, DC, this 29th day of December, 2004.
Everet H. Beckner,
Deputy Administrator for Defense Programs, National Nuclear Security Administration.

[FR Doc. 05-210 Filed 1-4-05; 8:45 am]

BILLING CODE 6450-01-P